DEPARTMENT OF TRANSPORTATION

Federal Aviation Administration

14 CFR Part 39

[Docket No. 2000-NM-160-AD]

RIN 2120-AA64

Airworthiness Directives; Airbus Model A310, and Model A300 B4-600, A300 B4-600R, and A300 F4-600R (Collectively Called A300-600) Series Airplanes

AGENCY: Federal Aviation Administration, DOT.

ACTION: Notice of proposed rulemaking (NPRM).

SUMMARY: This document proposes the supersedure of an existing airworthiness directive (AD), applicable to certain Airbus Model A310 and A300-600 series airplanes. The existing AD requires a detailed visual inspection to detect damage to the terminal lugs on the 12XC and 15XE connectors and the mounting lugs on the 15XE connector; corrective actions, if necessary; and certain conditional repetitive inspections. This action would add requirements for installation of a new mounting bracket for the 15XE connector, modification of the cable attachment adjacent to the connector, and replacement of certain terminal lugs on the 15XE connector by terminal lugs with a thicker contact area. This proposal is prompted by issuance of mandatory continuing airworthiness information by a foreign civil airworthiness authority. The actions specified by the proposed AD are intended to prevent excessive vibrations generated by the mounting configuration of the 15XE connector, which could cause breakage of the terminal and mounting lugs on the 15XE connectors in the 101VU panel in the avionics compartment, resulting in loss of electrical power from the standby generator.

DATES: Comments must be received by March 19, 2001.

ADDRESSES: Submit comments in triplicate to the Federal Aviation Administration (FAA), Transport Airplane Directorate, ANM-114, Attention: Rules Docket No. 2000-NM-160-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-160-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed action. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-160-AD.” The postcard will be date stamped and returned to the commenter.

Availability of NPRMs

Any person may obtain a copy of this NPRM by submitting a request to the FAA, Transport Airplane Directorate, ANM-114, Attention: Rules Docket No. 2000-NM-160-AD, 1601 Lind Avenue, SW., Renton, Washington 98055-4056.

Discussion

On September 10, 1999, the FAA issued AD 99-19-40, amendment 39-11327 (64 FR 51190, September 22, 1999), applicable to certain Model A310 and Model A300-600 series airplanes. That AD requires a detailed visual inspection to detect damage to the terminal lugs on the 12XC and 15XE connectors and the mounting lugs on the 15XE connector; and repair or replacement of the terminal lugs or the 15XE connector with new parts, if necessary. That action was prompted by issuance of mandatory continuing airworthiness information by a foreign civil airworthiness authority. The requirements of that AD are intended to detect and correct broken terminal and mounting lugs on the 12XC and the 15XE connectors in the 101VU panel in the avionics compartment, which could result in loss of electrical power from the standby generator.

Actions Since Issuance of AD 99-19-40

In the Notice of Proposed Rule Making that preceded issuance of AD 99-19-40, the FAA stated that preliminary indications were that the mounting configuration of connector 12XE was transmitting vibration to the terminal lugs of both connectors and to the mounting lugs of connector 15XE. Subsequently, in the preamble to AD 99-19-40, the FAA stated that the actions required by that AD were considered “interim action” until final action was identified, at which time the agency might consider further rulemaking.

Since the issuance of that AD, laboratory analyses and flight tests conducted by Airbus have shown that excessive vibration is generated by the mounting configuration of the 15XE connector. That condition, if not corrected, could result in breakage of the mounting lugs on the 15XE connector and the terminal lugs on the 15XE and 12XC connectors in the 101VU panel in the avionics compartment, resulting in loss of electrical power from the standby generator to the AC essential bus. Therefore, the FAA has determined that further rulemaking action is indeed necessary, and this proposed AD follows from that determination.

Explanation of Relevant Service Information

Airbus has issued Service Bulletins A310-24-2080 (for Model A310 series airplanes) and A300-24-6070 (for Model A300-600 series airplanes), both dated December 15, 1999. The service bulletins describe procedures for replacing the mounting bracket for the 15XE connector, modifying the cable attachment adjacent to the connector, and replacing certain terminal lugs on the 15XE connector with lugs having a thicker contact area. The modification is intended to eliminate excessive vibration and prevent the possible consequent breakage of the mounting lugs on the 15XE connector and the terminal lugs on the 15XE and 12XC connectors. The Direction Generale de l'Aviation Civile (DGAC), which is the airworthiness authority for France, classified these service bulletins as mandatory and issued French airworthiness directive 2000-145-306(B), dated April 5, 2000, in order to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

An unsafe condition has been identified that is likely to exist or develop on other airplanes of the same type design registered in the United States. The proposed AD would supersede AD 99-19-40 to continue to require inspecting the terminal lugs on the 12XC and 15XE connectors and the mounting lugs on the 15XE connectors for damage, and corrective action, if necessary. The proposed AD would add requirements for installation of a new mounting bracket for the 15XE connector, modification of the cable attachment adjacent to the connector, and replacement of certain terminal lugs on the 15XE connector with lugs having a thicker contact area. The proposed AD would require accomplishment of the actions specified in the service bulletins described previously, as applicable.

Explanation of Applicability of the Proposed AD

Sections of AD 99-19-40 that pertain to applicability identify certain Airbus modifications by incorrect numbers. Those modification numbers have been corrected in this proposed AD.

Because of this error in modification numbers in AD 99-19-40, it is possible that certain airplanes—Model A310 series airplanes on which Airbus Modification 05910 had been installed and Model A300-600 series airplanes on which Airbus Modification 06213 had been installed—did not comply with that AD. Therefore, the requirements of AD 99-19-40 are re-stated in the proposed AD. The compliance time for the inspection would be reset from the effective date of the AD.

Operators of these airplanes who did comply with the requirements of AD 99-19-40 need not repeat the detailed visual inspections and corrective action required by that AD. However, such operators who elected to repair rather than replace a 15XE connector with damaged mounting lugs must continue to perform periodic inspections and periodic re-repairs of the connector until it is replaced with a new 15XE connector.

Additional Changes to Applicability

This proposed AD and AD 99-19-40 are applicable to the same airplane models. However, the model designation of the affected airplanes has been revised to conform to the type certificate data sheet listing for these airplanes. This proposed AD identifies these airplanes as “Model A310, and Model A300 B4-600, A300 B4-600R, and A300 F4-600R series airplanes.”

Cost Impact

There are approximately 109 airplanes of U.S. registry that would be affected by this proposed AD. The following information describes the estimated cost impact on U.S. operators of the proposed actions:

Action | Work hours | Hourly labor rate | Parts cost | Per-airplane cost | Fleet cost
Inspection | 2 | $60 | $0 | $120 | $13,080
Modification | 5 | 60 | 490 | 790 | 86,110

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11327 (64 FR 51190, September 22, 1999), and by adding a new airworthiness directive (AD), to read as follows:

Airbus Industrie: Docket 2000-NM-160-AD. Supersedes AD 99-19-40, Amendment 39-11327.

Applicability: The following airplanes, certificated in any category and equipped with a standby generator (FIN 25XE); excluding airplanes on which Airbus Modification 12135 has been accomplished: Model A310 series airplanes on which Airbus Modification 05910 has been installed, and Model A300 B4-600, A300 B4-600R, and A300 F4-600R (Collectively Called A300-600) series airplanes on which Airbus Modification 06213 has been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent excessive vibrations generated by the mounting configuration of the 15XE connector, which could cause breakage of the terminal and mounting lugs on the 15XE connector in the 101VU panel in the avionics compartment, resulting in loss of electrical power from the standby generator, accomplish the following:

Restatement of Certain Actions Required by AD 99-19-40

Inspection and Corrective Actions

(a) Prior to the accumulation of 5,000 total flight hours, or within 600 flight hours after the effective date of this AD, whichever occurs later: Accomplish the actions required by paragraphs (a)(1) and (a)(2) of this AD in accordance with Airbus All Operators Telex (AOT) 24-09, Revision 01, dated August 13, 1998.

(1) Perform a detailed visual inspection of the terminal lugs on the 12XC and 15XE connectors to detect damage (i.e., overheat, cracking, twisting, or total rupture). If any damage is detected, prior to further flight, replace the terminal lugs with new terminal lugs, part number (P/N) NSA936501TA1004.

(2) Perform a detailed visual inspection of the mounting lugs on the 15XE connector to detect damage (i.e., cracking or breaking). If any damage is detected, prior to further flight, accomplish the requirements of either paragraph (a)(2)(i) or (a)(2)(ii) of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(i) Replace connector 15XE with a new connector, P/N 25811BOSHUNTKL, vendor code F0214 ECE. Or,

(ii) Repair connector 15XE in accordance with Airbus AOT 24-09, Section 4.2.2.3. Repeat the detailed visual inspection required by paragraph (a)(2) of this AD of the repaired connector thereafter at intervals not to exceed 1 week, and repeat the repair with new cable ties thereafter at intervals not to exceed 3 months, until the replacement required by paragraph (a)(2)(i) of this AD is accomplished.

New Actions Required by This AD

Installation

(b) Within 20 months after the effective date of this AD, install a new mounting bracket for the 15XE connector, modify the cable attachment adjacent to the connector, and replace certain terminal lugs with lugs having a thicker contact area, in accordance with Airbus Service Bulletin A310-24-2080 (for Model A310 series airplanes) or A300-24-6070 (for Model A300-600 series airplanes), both dated December 15, 1999, as applicable.

Replacement

(c) Continue the detailed visual inspection of a repaired 15XE connector which is required by paragraph (a)(2)(ii) of this AD at intervals not to exceed 1 week, and continue the repair with new cable ties at intervals not to exceed 3 months, until the repaired 15XE connector is replaced by a new 15XE connector.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Note 4: The subject of this AD is addressed in French airworthiness directive 2000-145-306(B), dated April 5, 2000.

Issued in Renton, Washington, on February 9, 2001.
Vi L. Lipski,
Manager, Transport Airplane Directorate, Aircraft Certification Service.

[FR Doc. 01-3855 Filed 2-14-01; 8:45 am]

BILLING CODE 4910-13-P